DEPARTMENT OF TRANSPORTATION

Surface Transportation Board

[STB Docket No. MC-F-20985]

Holland America Line—Westours, Inc.—Control—Westmark Hotels of Canada Ltd.

AGENCY: Surface Transportation Board.

ACTION: Notice Tentatively Approving Finance Transaction.

SUMMARY: Holland America Line—Westours, Inc. (HAL), a noncarrier holding company that controls two motor passenger carrier subsidiaries, Westours Motor Coaches, Inc. (WMC) and Evergreen Trails, Inc. (Evergreen),¹ has filed an application under 49 U.S.C. 14303 for acquisition of control of another subsidiary, Westmark Hotels of Canada Ltd. (Westmark), a recently certificated motor carrier of passengers.² Persons wishing to oppose the application must follow the rules under 49 CFR 1182.5 and 1182.8. The Board has tentatively approved the transaction, and, if no opposing comments are timely filed, this notice will be the final Board action.

¹ The control of these two carriers was approved in Westours, Inc.—Control—Evergreen Trails, Inc., No. MC-F-13910 (ICC served July 13, 1979).

² Westmark's operating authority was served on May 25, 2001, in FMCSA Docket No. MC-405618.

DATES: Comments are due by November 26, 2001. Applicant may reply by December 10, 2001. If no comments are received by November 26, 2001, this notice is effective on that date.

ADDRESSES: Send an original and 10 copies of any comments referring to STB Docket No. MC-F-20985 to: Surface Transportation Board, Office of the Secretary, Case Control Unit, 1925 K Street, N.W., Washington, DC 20423-0001. In addition, send one copy of comments to applicant's representative: Jeremy Kahn, 1730 Rhode Island Ave., N.W., Suite 810, Washington, DC 20036.

FOR FURTHER INFORMATION CONTACT: Joseph H. Dettmar, (202) 565-1600. [TDD for the hearing impaired: 1-800-877-8339.]

SUPPLEMENTARY INFORMATION: HAL is a noncarrier that currently controls two regulated passenger carrier subsidiaries, WMC (Docket No. MC-118832) and Evergreen (Docket No. MC-107638). Under the proposed transaction, HAL is seeking to acquire control of another regulated passenger carrier subsidiary, Westmark. Applicant states that it directly holds a portion of Westmark's shares and that the remainder are held by a HAL noncarrier subsidiary. All three carriers are authorized to transport passengers in charter and special operations between points in the United States.

Applicant has submitted information, as required by 49 CFR 1182.2(a)(7), to demonstrate that the proposed acquisition of control is consistent with the public interest under 49 U.S.C. 14303(b). Applicant states that the proposed transaction will have no impact on the adequacy of transportation services available to the public, that the operations of the carriers involved will remain unchanged, that there are no fixed charges associated with the proposed transaction, and that no carrier employees will be adversely affected by the transaction. In addition, applicant has submitted all of the other statements and certifications required by 49 CFR 1182.2. Additional information, including a copy of the application, may be obtained from the applicant's representative.

Under 49 U.S.C. 14303, we must approve and authorize a transaction we find consistent with the public interest, taking into consideration at least: (1) the effect of the transaction on the adequacy of transportation to the public; (2) the total fixed charges that result; and (3) the interest of affected carrier employees.

On the basis of the application, we find that the proposed acquisition of control is consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our website at www.stb.dot.gov.

This action will not significantly affect either the quality of the human environment or the conservation of energy resources.

It is ordered:

1. The proposed acquisition of control is approved and authorized, subject to the filing of opposing comments.

2. If timely opposing comments are filed, the findings made in this decision will be deemed as having been vacated.

3. This decision will be effective on November 26, 2001, unless timely opposing comments are filed.

4. A copy of this notice will be served on: (1) The U.S. Department of Transportation, Federal Motor Carrier Safety Administration, 400 7th Street, S.W., Room 8214, Washington, DC 20590; (2) the U.S. Department of Justice, Antitrust Division, 10th Street & Pennsylvania Avenue, N.W., Washington, DC 20530; and (3) the U.S. Department of Transportation, Office of the General Counsel, 400 7th Street, S.W., Washington, DC 20590.

Decided: October 2, 2001.
By the Board, Chairman Morgan, Vice Chairman Clyburn, and Commissioner Burkes.
Vernon A. Williams,
Secretary.

[FR Doc. 01-25235 Filed 10-9-01; 8:45 am]

BILLING CODE 4915-00-P